DEPARTMENT OF TRANSPORTATION

Pipeline and Hazardous Materials Safety Administration

[Docket No. PHMSA-2015-0179]

Pipeline Safety: Information Collection Activities

AGENCY: Pipeline and Hazardous Materials Safety Administration (PHMSA), DOT.

ACTION: Notice and request for comments.

SUMMARY: On October 5, 2015, in accordance with the Paperwork Reduction Act of 1995, PHMSA published a notice in the Federal Register (80 FR 60242) inviting comments on information collections titled “Pipeline Integrity Management in High Consequence Areas Gas Transmission Pipeline Operators; Control Room Management/Human Factors; Integrity Management Program for Gas Distribution Pipelines, and Response Plans for Onshore Oil Pipelines,” identified by Office of Management and Budget (OMB) control numbers 2137-0610, 2137-0624, 2137-0625, and 2137-0589. These information collections will expire on March 31, 2016. PHMSA will request an extension with no change for the information collections 2137-0610, 0624, and 0625. PHMSA will request a renewal with revisions to the information collection 2137-0589 to revise the number of respondents PHMSA expected to comply with this information collection.

During the 60-day comment period, PHMSA received no comments in response to these collections. PHMSA is publishing this notice to provide the public with an additional 30 days to comment on the renewal of these information collections and announce that these information collections will be submitted to OMB for approval.

DATES: Interested persons are invited to submit comments on or before February 16, 2016.

ADDRESSES: You may submit comments identified by the docket number PHMSA-2015-0009 by any of the following methods:

• Fax: 1-202-395-5806.

• Mail: Office of Information and Regulatory Affairs, Records Management Center, Room 10102 NEOB, 725 17th Street NW., Washington, DC 20503, ATTN: Desk Officer for the U.S. Department of Transportation/PHMSA.

• Email: Office of Information and Regulatory Affairs, Office of Management and Budget, at the following email address: OIRA_Submission@omb.eop.gov.

Requests for a copy of the Information Collection should be directed to Jenny Donohue by telephone at 202-366-4046 or by email at jenny.donohue@dot.gov.

FOR FURTHER INFORMATION CONTACT: Angela Dow by telephone at 202-366-1246 or by email at angela.dow@dot.gov.

SUPPLEMENTARY INFORMATION: Section 1320.8(d), Title 5, Code of Federal Regulations, requires PHMSA to provide interested members of the public and affected agencies an opportunity to comment on information collection and recordkeeping requests. This notice identifies several information collection requests that PHMSA will submit to OMB for renewal. The following information is provided for each information collection: (1) Title of the information collection; (2) OMB control number; (3) Current expiration date; (4) Type of request; (5) Abstract of the information collection activity; (6) Description of affected public; (7) Estimate of total annual reporting and recordkeeping burden; and (8) Frequency of collection. PHMSA will request a three-year term of approval for each information collection activity. PHMSA requests comments on the following information collections:

1. Title: Pipeline Integrity Management in High Consequence Areas Gas Transmission Pipeline Operators.

OMB Control Number: 2137-0610.

Current Expiration Date: 3/31/2016.

Type of Request: Extension without change of a currently approved collection.

Abstract: The Federal Pipeline Safety Regulations in 49 CFR part 192, subpart O require operators of gas pipelines to develop and implement integrity management programs. The purpose of these programs is to enhance safety by identifying and reducing pipeline integrity risks. The regulations also require that operators maintain records demonstrating compliance with these requirements.

Affected Public: Gas transmission operators.

Annual Reporting and Recordkeeping Burden:

Estimated number of responses: 733.

Estimated annual burden hours: 1,018,807.

Frequency of collection: On occasion.

2. Title: Control Room Management/Human Factors.

OMB Control Number: 2137-0624.

Current Expiration Date: 3/31/2016.

Type of Request: Extension without change of a currently approved collection.

Abstract: The Federal Pipeline Safety Regulations in 49 CFR parts 192 and 195 require operators of hazardous liquid pipelines and gas pipelines to develop and implement a human factors management plan designed to reduce risk associated with human factors in each pipeline control room and to maintain records demonstrating compliance with these requirements.

Affected Public: Private sector; Operators of both natural gas and hazardous liquid pipeline systems.

Annual Reporting and Recordkeeping Burden:

Estimated number of responses: 2,702.

Estimated annual burden hours: 127,328.

Frequency of Collection: On occasion.

3. Title: Pipeline Safety: Integrity Management Program for Gas Distribution Pipelines.

OMB Control Number: 2137-0625.

Current Expiration Date: 3/31/2016.

Type of Request: Extension without change of a currently approved collection.

Abstract: The Federal Pipeline Safety Regulations require operators of gas distribution pipelines to develop and implement integrity management programs. The purpose of these programs is to enhance safety by identifying and reducing pipeline integrity risks. The regulations require that operators maintain records demonstrating compliance with these requirements.

Affected Public: Operators of gas distribution pipeline systems.

Annual Reporting and Recordkeeping Burden:

Estimated number of responses: 9,343.

Estimated annual burden hours: 865,178.

Frequency of collection: On occasion.

4. Title: Response Plans for Onshore Oil Pipelines.

OMB Control Number: 2137-0589.

Current Expiration Date: 3/31/2016.

Type of Request: Revision of a currently approved information collection.

Abstract: The Oil Pipeline Response Plan regulations in 49 CFR part 194 require an operator of an onshore oil pipeline facility to prepare and submit an oil spill response plan to PHMSA for review and approval. This revision only updates the number of respondents to accurately reflect the current usage of this collection.

Affected Public: Operators of onshore oil pipeline facilities.

Estimated number of responses: 434.

Estimated annual burden hours: 59,458.

Frequency of collection: On occasion.

Comments are invited on:

(a) The need for the renewal and revision of these collections of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Authority: The Paperwork Reduction Act of 1995; 44 U.S.C. Chapter 35, as amended; and 49 CFR 1.48.

Issued in Washington, DC, on January 11, 2016, under authority delegated in 49 CFR 1.97.
John A. Gale,
Director, Office of Standards and Rulemaking.

[FR Doc. 2016-00626 Filed 1-14-16; 8:45 am]

BILLING CODE 4910-60-P